DEPARTMENT OF AGRICULTURE

Forest Service

National Environmental Policy Act, Revised Procedures

AGENCY: Forest Service, USDA.

ACTION: Notice of availability.

SUMMARY: This notice announces the establishment of a categorical exclusion (CE) for the USDA, Forest Service as directed by the amendment of the Healthy Forests Restoration Act (HFRA) of 2003 by the Agriculture Improvement Act of 2018. This establishment revises Forest Service policies and procedures for compliance with the National Environmental Policy Act (NEPA), as amended. This CE, as well as others established by Congress, as described below, will be incorporated into the Forest Service Handbook.

DATES: The new and updated CEs will be incorporated into Forest Service Handbook (FSH) 1909.15, Chapter 30 March 16, 2020.

ADDRESSES: The public will be able to review the revised FSH on the Forest Service's website at: https://www.fs.fed.us/emc/nepa/nepa_procedures/index.shtml. The Forest Service's current procedures can also be viewed at that website.

FOR FURTHER INFORMATION CONTACT: James Smalls, Assistant Director, Ecosystem Management Coordination via phone at 202-205-1475 or via email at james.smalls@usda.gov.

Individuals who use telecommunication devices for the deaf (TDD) may call the Federal Information Relay Service (FIRS) at 1-800-877-8339 between 8 a.m. and 8 p.m., Eastern Standard Time, Monday through Friday.

SUPPLEMENTARY INFORMATION: Over the past several years, Congress has established new or revised existing CEs or exceptions from NEPA for use by the Forest Service. These actions are listed in FSH 1909.15—National Environmental Policy Act Handbook, Chapter 30—Categorical Exclusion from Documentation. Section 32.3 lists categories established by statute and section 32.4 lists statutory NEPA exceptions. Chapter 30 is being updated to add a new statutorily established CE for greater sage-grouse or mule deer habitat. The Agriculture Improvement Act of 2018 amended Title VI of HFRA of 2003 (16 U.S.C. 6591 et seq.) to add section 606. Section 606 directed development of a CE for specified covered vegetation management activities carried out to protect, restore, or improve habitat for greater sage-grouse or mule deer (HFRA, Section 606(b)(1)). Section 606 further provides the specific terms, actions, limitations, exclusions, and definitions of activities to be included in the CE established. As directed by this section, the Forest Service is to establish the CE that meets these same specific terms, actions, limitations, exclusions, and definitions; and to establish the CE within one year of the enactment of the legislation (by December 20, 2019).

In addition to adding the section 606 CE, the Forest Service is combining sections 32.3 and 32.4 of FSH 1909.15, Chapter 30. The updated section 32.3 will also incorporate updates to the Forest Service's approach to implementation of the section 603 CE and incorporate several other CEs established by Congress in recent years. Section 32.3 has also been reordered to list the categories and exceptions in chronological order based on when they were enacted.

Because the categories and exceptions are established or directed by Congress, the Forest Service does not have the discretion to change their terms. Below is the new text of FSH 1909.15, Chapter 30, Section 32.3:

32.3—Categories and Exceptions Established by Statute

Congress has statutorily established the following CEs or exceptions from NEPA. Excluding the exception for organizational camp special use authorizations, all of the following items must be published to the Schedule of Proposed Actions and must be entered into the Planning, Appeals, and Litigation System (PALS). Specific requirements on public input, collaboration, documentation, and extraordinary circumstances vary by each category and are specified below. The responsible official should be familiar with each category, as they have varying procedural requirements.

1. Organizational Camp Special Use Authorizations. The National Forest Organizational Camp Fee Improvement Act of 2003 (16 U.S.C. 6231 et seq.) established that the ministerial issuance or amendment of an organizational camp special use authorization is not subject to NEPA. Sections 502(c) and 507 (16 U.S.C. 6231, 6236) provide as follows:

502(c) Definitions. In this Act:

(1) The term “organizational camp” means a public or semipublic camp that—

(A) is developed on National Forest System lands by a nonprofit organization or governmental entity;

(B) provides a valuable service to the public by using such lands as a setting to introduce young people or individuals with a disability to activities that they may not otherwise experience and to educate them on natural resource issues; and

(C) does not have as its primary purpose raising revenue through commercial activities.

507(a) NEPA EXCEPTION.—The ministerial issuance or amendment of an organizational camp special use authorization shall not be subject to the National Environmental Policy Act of 1969 (42 U.S.C. 4321 et seq.).

(b) RULE OF CONSTRUCTION.—For purposes of subsection (a), the ministerial issuance or amendment of an authorization occurs only when the issuance or amendment of the authorization would not change the physical environment or the activities, facilities, or program of the operations governed by the authorization, and at least one of the following apply.

(1) The authorization is issued upon a change in control of the holder of an existing authorization.

(2) The holder, upon expiration of an authorization, is issued a new authorization.

(3) The authorization is amended—

(A) to effectuate administrative changes, such as modification of the land use fee or conversion to a new special use authorization form; or

(B) to include nondiscretionary environmental standards or to conform with current law.

Cite this authority as 16 U.S.C. 6236.

2. Applied Silvicultural Assessments. Section 404 of the Healthy Forests Restoration Act categorically excludes applied silvicultural assessments for information gathering and research purposes. Section 404 (16 U.S.C. 6554) provides as follows:

Applied silvicultural assessment and research treatments carried out under this section on not more than 1,000 acres for an assessment or treatment may be categorically excluded from documentation in an environmental impact statement and environmental assessment under the National Environmental Policy Act of 1969.

Applied silvicultural assessments must be peer reviewed by scientific experts including non-Federal experts. This CE is subject to the extraordinary circumstances provisions (sec. 31.4). For guidance on use of this CE, see Title IV of the Healthy Forests Restoration Act 16 U.S.C. 6551-6556.

Cite this authority as (16 U.S.C. 6554(d)).

3. Oil and Gas Leases. Section 390 of the Energy Policy Act of 2005 directs that certain activities shall be subject to a rebuttable presumption that the use of a CE under NEPA would apply if the activity is conducted pursuant to the Mineral Leasing Act (30 U.S.C. et seq., as amended) for the purpose of exploration or development of oil or gas. Section 390 identifies five categories of actions that are subject to the statutory categorical exclusion.

The categorical exclusions apply exclusively to oil and gas exploration and development activities conducted pursuant to the Mineral Leasing Act on Federal oil and gas leases. They do not apply to geothermal leases.

Section 390 (42 U.S.C. 15942) provides as follows:

a. NEPA REVIEW.—Action by the Secretary of the Interior in managing the public lands, or the Secretary of Agriculture in managing National Forest System Lands, with respect to any of the activities described in subsection (b) shall be subject to a rebuttable presumption that the use of a categorical exclusion under the National Environmental Policy Act of 1969 (NEPA) would apply if the activity is conducted pursuant to the Mineral Leasing Act for the purpose of exploration or development of oil or gas.

b. ACTIVITIES DESCRIBED.—The activities referred to in subsection (a) are the following:

(1) Individual surface disturbances of less than 5 acres so long as the total surface disturbance on the lease is not greater than 150 acres and site-specific analysis in a document prepared pursuant to NEPA has been previously completed.

(2) Drilling an oil or gas well at a location or well pad site at which drilling has occurred previously within 5 years prior to the date of spudding the well.

(3) Drilling an oil or gas well within a developed field for which an approved land use plan or any environmental document prepared pursuant to NEPA analyzed such drilling as a reasonably foreseeable activity, so long as such plan or document was approved within 5 years prior to the date of spudding the well.

(4) Placement of a pipeline in an approved right-of-way corridor, so long as the corridor was approved within 5 years prior to the date of placement of the pipeline.

(5) Maintenance of a minor activity, other than any construction or major renovation or a building or facility.

Additional guidance on using these CEs can be found in the June 9, 2010 Deputy Chief's 1950 memo to Regional Forester and in the Deputy Chief's 1950 memo to Regional Foresters dated September 1, 2011, entitled Energy Policy Act of 2005, Adjusted Use of Section 390 Categorical Exclusions for Oil and Gas due to Western Energy Alliance v. Salazar, No. 10-237 (D. Wyo. August 12, 2011). Copies of these letters are added at Exhibit 01 at the end of section 32.3. Per the 2011 memo, a review of extraordinary circumstances is not required for use of Section 390 CEs. A decision memo is required to document:

(1) Identification of the applicable categories.

(2) A brief narrative stating the rationale for making the determination that use of the categorical exclusion(s) applies to the activity under consideration, specifically addressing the applicable review criteria, including extraordinary circumstances.

(3) Any additional information required to demonstrate compliance with all applicable laws, regulations, and policies (e.g., Biological Assessment/Biological Evaluation, cultural/heritage resource clearance, etc.).

(4) Copies or reference to materials used to support the determination.

Cite this authority as 42 U.S.C. 15942.

4. Lake Tahoe Basin Hazardous Fuel Reduction Projects. The 2009 Omnibus Appropriations Act (Public Law (Pub. L.) 111-8) established a CE for hazardous fuels reduction projects within the Lake Tahoe Basin Management Unit.

Within the Lake Tahoe Basin Management Unit, projects carried out under this authority are limited to the following size limitations:

a proposal to authorize a hazardous fuel reduction project, not to exceed 5,000 acres, including no more than 1,500 acres of mechanical thinning. (Sec. 423(a))

This CE can be used if the project:

is consistent with the Lake Tahoe Basin Multi-Jurisdictional Fuel Reduction and Wildfire Prevention Strategy published in December 2007 and any subsequent revision to the strategy; is not conducted in any wilderness areas; and does not involve any new permanent roads. (Sec. 423(a))

A proposal using this CE shall be subject to:

the extraordinary circumstances procedures . . . ; and an opportunity for public input. (Sec. 423(b))

Document this category in a decision memo (FSH 1909.15, 33.2-33.3). The decision memo should include a description of the efforts taking by the Lake Tahoe Basin Management Unit provide an opportunity for public input.

Cite this authority as Public Law 111-8, Sec. 423.

5. Insect and Disease Infestation. Section 8204 of the Agricultural Act of 2014 (Pub. L. 113-79) amended Title VI of the Healthy Forests Restoration Act of 2003 (HFRA) (16 U.S.C. 6591 et seq.) to add sections 602 and 603. Section 8407 of the Agriculture Improvement Act of 2018 (Pub. L. 115-334) later amended sections 602 and 603 to add hazardous fuels reduction projects to the types of projects that may be carried out under sections 602 and 603. Projects completed using the section 603 provisions are considered categorically excluded from the requirements of NEPA and evaluation of extraordinary circumstances is not required.

Section 603 can be used for qualifying insect and disease or hazardous fuels reduction projects in areas designated by the Secretary under section 602 on National Forest System lands. Landscape scale areas may be designated by the Secretary if they meet at least one of the criteria found in HFRA, sections 602(c)(1)(2) & (3). An insect and disease or hazardous fuels project that may be carried out under this authority is a project that is designed to reduce the risk or extent of, or increase the resilience to, insect or disease infestation, or to reduce hazardous fuels in the areas (HFRA, Sections 602(d) and 603(a)).

Within designated landscape scale areas, projects carried out under this authority are limited to areas in:

the wildland-urban interface; or Condition Classes 2 or 3 in Fire Regime Groups I, II, or III, outside the wildland urban interface. (HFRA, Sections 603(c)(2)(A) & (B))

Projects carried out under this authority may not be implemented in any of the following areas:

a component of the National Wilderness Preservation System; any Federal land on which, by Act of Congress or Presidential proclamation, the removal of vegetation is restricted or prohibited; a congressionally designated wilderness study area; or an area in which activities . . . would be inconsistent with the applicable land and resource management plan. (HFRA, Sections 603(d)(1)-(4))

A project under this authority must either carry out a forest restoration treatment that:

complies with the eligibility requirements of the Collaborative Forest Landscape Restoration Program under section 4003(b) of the Omnibus Public Land Management Act of 2009 (16 U.S.C. 7303(b)). (HFRA, Sections 603(b)(2))

Or, a project under this authority must carry out a forest restoration treatment that:

maximizes the retention of old-growth and large trees, as appropriate for the forest type, to the extent that the trees promote stands that are resilient to insects and disease;

considers the best available scientific information to maintain or restore the ecological integrity, including maintaining or restoring structure, function, composition, and connectivity; and

is developed and implemented through a collaborative process that—

includes multiple interested persons representing diverse interests; and

is transparent and nonexclusive; or

meets the requirements for a resource advisory committee under subsections (c) through (f) of section 205 of the Secure Rural Schools and Community Self-Determination Act of 2000 (16 U.S.C. 7125). (HFRA, Sections 603(b)(1)(A)-(C)).

Projects carried out under this authority are subject to the following size limitation on the number of acres treated:

may not exceed 3000 acres. (HFRA, Section 603(c)(1))

Projects carried out under this authority are subject to the following limitations relating to roads:

A project . . . shall not include the establishment of permanent roads.

The Secretary may carry out necessary maintenance and repairs on existing permanent roads for purposes of this section.

The Secretary shall decommission any temporary road constructed under a project under this section not later than 3 years after the date on which the project is completed. (HFRA, Section 603(c)(3))

All projects and activities carried out under this authority:

shall be consistent with the land and resource management plans. . .” (HFRA, Section 603(e))

For projects and actions carried out under this authority:

The Secretary shall conduct public notice and scoping for any project or action. (HFRA, Section 603(f))

Document this category in a decision memo (FSH 1909.15, 33.2-33.3). The decision memo should include a description of the efforts taken by the Agency to meet the collaborative process requirements in HFRA, Section 603(b)(1).

Cite this authority as section 603 of HFRA (16 U.S.C. 6591b).

6. Grazing Permits and Leases. The Carl Levin and Howard P. “Buck” McKeon National Defense Authorization Act for Fiscal Year 2015 (Pub. L. 113-291) amended section 402 of the Federal Land Policy and Management Act (43 U.S.C. 1752) to add a grazing permit categorical exclusion (402(h)(1)).

(1) In general.—The issuance of a grazing permit or lease by the Secretary concerned may be categorically excluded from the requirement to prepare an environmental assessment or an environmental impact statement under the National Environmental Policy Act of 1969 (42 U.S.C. 4321 et seq.) if—

(a) the issued permit or lease continues the current grazing management of the allotment; and

(b) the Secretary concerned—

(i) has assessed and evaluated the grazing allotment associated with the lease or permit; and

(ii) based on the assessment and evaluation under clause (i), has determined that the allotment—

(II) with respect to National Forest System land administered by the Secretary of Agriculture—

(aa) is meeting objectives in the applicable land and resource management plan; or

(bb) is not meeting the objectives in the applicable land resource management plan due to factors other than existing livestock grazing.

The category is subject to extraordinary circumstances review and should be documented in a decision memo (FSH 1909.15, 33.2-33.3).

Cite this authority as section 402(h)(1) of FLPMA (43 U.S.C. 1752).

7. Trailing and Crossing of Livestock. The Carl Levin and Howard P. “Buck” McKeon National Defense Authorization Act for Fiscal Year 2015 (Pub. L. 113-291) amended section 402 of the Federal Land Policy and Management Act (U.S.C. 1752) to add a trailing and crossing categorical exclusion (402(h)(2)).

(2) The trailing and crossing of livestock across public land and the implementation of trailing and crossing practices by the Secretary concerned may be categorically excluded from the requirement to prepare an environmental assessment or an environmental impact statement under the National Environmental Policy Act of 1969 (42 U.S.C. 4321 et seq.).

This category is subject to extraordinary circumstances review and should be documented in a decision memo (FSH 1909.15, 33.2-33.3).

Cite this authority as section 402(h)(2) of FLPMA (43 U.S.C. 1752).

8. Lake Tahoe Basin Forest Management Activities. In 2016, the Water Infrastructure Improvements for the Nation Act (WIIN) (Pub. L. 114-322) amended the Lake Tahoe Restoration Act (Pub. L. 106-506; 114 Stat. 2353) by establishing a CE for forest management activities in the Lake Tahoe Basin Management Unit for the purpose of reducing forest fuels.

Within the Lake Tahoe Basin Management Unit, projects carried out under this authority can be carried out using the CE if the forest management activity:

notwithstanding section 423 of the Department of the Interior, Environment, and Related Agencies Appropriations Act, 2009 (division E of Pub. L. 111-8; 123 Stat. 748), does not exceed 10,000 acres, including not more than 3,000 acres of mechanical thinning; (Pub. L. 114-322, Sec. 3603(c))

Projects must be developed:

in coordination with impacted parties, specifically including representatives of local governments, such as county supervisors or county commissioners; and in consultation with other interested parties (Pub. L. 114-322, Sec. 3603(c))

All projects and activities carried out under this authority must be:

consistent with the Lake Tahoe Basin Management Unit land and resource management plan. (Pub. L. 114-322, Sec. 3603(c))

This category is subject to extraordinary circumstances review and should be documented in a decision memo (FSH 1909.15, 33.2-33.3). The decision memo should include a description of the efforts taken by the Lake Tahoe Basin Management Unit to meet the coordination and consultation requirements.

Cite this authority as Public Law 114-322, Sec. 3603.

9. Wildfire Resilience. The Consolidated Appropriations Act of 2018 (Pub. L. 115-171) amended Title VI of the Healthy Forests Restoration Act of 2003 (HFRA) (16 U.S.C. 6591 et seq.) to add Section 605. Section 605 establishes a categorical exclusion for hazardous fuels reduction projects in designated areas on National Forest System lands. A hazardous fuels reduction project that may be categorically excluded under this authority is a project that is designed to maximize the retention of old-growth and large trees, to the extent that the trees promote stands that are resilient to insects and disease, and reduce the risk or extent of, or increase the resilience to, wildfires (HFRA, Sections 605(b)(1)(A)).

This categorical exclusion may be used to carry out a hazardous fuels project in an insect and disease treatment area that was designated by the Secretary under HFRA section 602(b) by March 23, 2018. (HFRA, Section 605(c)(2)(C))

Within designated landscape scale areas, projects carried out under this authority are:

Prioritized in the wildland-urban interface; or

If located outside the wildland-urban interface, limited to Condition Classes 2 or 3 in Fire Regime Groups I, II, or III that contain very high wildfire hazard potential. (HFRA, Sections 605(c)(2)(A) & (B))

Projects carried out under this authority may not be implemented in any of the following areas:

a component of the National Wilderness Preservation System;

any Federal land on which, by Act of Congress or Presidential proclamation, the removal of vegetation is restricted or prohibited;

a congressionally designated wilderness study area; or

an area in which activities . . . would be inconsistent with the applicable land and resource management plan. (HFRA, Sections 605(d)(1)-(4))

A project under this authority must either carry out a forest restoration treatment that:

complies with the eligibility requirements of the Collaborative Forest Landscape Restoration Program under section 4003(b) of the Omnibus Public Land Management Act of 2009 (16 U.S.C. 7303(b)). (HFRA, Sections 605(b)(2))

Or, a project under this authority must carry out a forest restoration treatment that:

maximizes the retention of old-growth and large trees, as appropriate for the forest type, to the extent that the trees promote stands that are resilient to insects and disease, and reduce the risk or extent of, or increase the resilience to, wildfires;

considers the best available scientific information to maintain or restore the ecological integrity, including maintaining or restoring structure, function, composition, and connectivity; and

is developed and implemented through a collaborative process that—

includes multiple interested persons representing diverse interests; and

is transparent and nonexclusive; or

meets the requirements for a resource advisory committee under subsections (c) through (f) of section 205 of the Secure Rural Schools and Community Self-Determination Act of 2000 (16 U.S.C. 7125). (HFRA, Sections 605(b)(1)(A)-(C)).

Projects carried out under this authority are subject to the following size limitation on the number of acres treated:

may not exceed 3000 acres.

(HFRA, Section 605(c)(1))

Projects carried out under this authority are subject to the following limitations relating to roads:

A project . . . shall not include the establishment of permanent roads.

The Secretary may carry out necessary maintenance and repairs on existing permanent roads for purposes of this section.

The Secretary shall decommission any temporary road constructed under a project under this section not later than 3 years after the date on which the project is completed. (HFRA, Section 605(c)(3))

All projects and activities carried out under this authority:

shall apply the extraordinary circumstances procedures under section 220.6 of title 36, Code of Federal Regulations (or successor regulations) when using the categorical exclusion under this section. (HFRA, Section 605((c)(4))

shall be consistent with the land and resource management plans. . . (HFRA, Section 605(e))

For projects and actions carried out under this authority:

The Secretary shall conduct public notice and scoping for any project or action. (HFRA, Section 605(f))

Document this category in a decision memo (FSH 1909.15, 33.2-33.3). The decision memo should include a description of the efforts taken by the Agency to meet the collaborative process requirements in HFRA, Section 605(b)(1).

Cite this authority as Section 605 of HFRA (16 U.S.C. 6591d).

10. Greater Sage-Grouse and Mule Deer Habitat. The Agriculture Improvement Act of 2018 (Pub. L. 115-334) amended Title VI of the Healthy Forests Restoration Act of 2003 (HFRA) (16 U.S.C. 6591 et seq.) to add Section 606. Section 606 establishes a categorical exclusion for covered vegetation management activities carried out to protect, restore, or improve habitat for greater sage-grouse or mule deer. (HFRA, Section 606(b)(1))

This categorical exclusion may be used to carry out a covered vegetation management activity on National Forest System land that was designated under HFRA section 602(b), by December 20, 2018. (HFRA, Section 606(g)(2))

Projects carried out under this authority are subject to the following size limitation on the number of acres treated:

may not exceed 4,500 acres. (HFRA, Sections 606(g)(1))

Covered vegetation management activities under this authority include:

manual cutting and removal of juniper trees, pinyon pine trees, other associated conifers, or other nonnative or invasive vegetation;

mechanical mastication, cutting, or mowing, mechanical piling and burning, chaining, broadcast burning, or yarding;

removal of cheat grass, medusa head rye, or other nonnative, invasive vegetation;

collection and seeding or planting of native vegetation using a manual, mechanical, or aerial method;

seeding of nonnative, noninvasive, ruderal vegetation only for the purpose of emergency stabilization;

targeted use of an herbicide, subject to the condition that the use shall be in accordance with applicable legal requirements, Federal agency procedures, and land use plans;

targeted livestock grazing to mitigate hazardous fuels and control noxious and invasive weeds;

temporary removal of wild horses or burros in the area in which the activity is being carried out to ensure treatment objectives are met;

in coordination with the affected permit holder, modification or adjustment of permissible usage under an annual plan of use of a grazing permit issued by the Secretary . . . to achieve restoration treatment objectives;

installation of new, or modification of existing, fencing or water sources intended to control use or improve wildlife habitat; or

necessary maintenance of, repairs to, rehabilitation of, or reconstruction of an existing permanent road or construction of temporary roads to accomplish the activities described in this subparagraph. (HFRA, Sections 606(a)(1)(B))

A covered vegetation management activity that may be categorically excluded under this authority is a project that:

is carried out on National Forest System land administered by the Forest Service; conforms to an applicable forest plan;

protects, restores, or improves greater sage-grouse or mule deer habitat in a sagebrush steppe ecosystem as described in—

Circular 1416 of the United States Geological Survey entitled `Restoration Handbook for Sagebrush Steppe Ecosystems with Emphasis on Greater Sage-Grouse Habitat—Part 1. Concepts for Understanding and Applying Restoration' (2015); or

the habitat guidelines for mule deer published by the Mule Deer Working Group of the Western Association of Fish and Wildlife Agencies;

will not permanently impair—

the natural state of the treated area;

outstanding opportunities for solitude;

outstanding opportunities for primitive, unconfined recreation;

economic opportunities consistent with multiple-use management; or

the identified values of a unit of the National Landscape Conservation System;

restores native vegetation following a natural disturbance; prevents the expansion into greater sage-grouse or mule deer habitat of juniper, pinyon pine, or other associated conifers; or nonnative or invasive vegetation; reduces the risk of loss of greater sage-grouse or mule deer habitat from wildfire or any other natural disturbance; or provides emergency stabilization of soil resources after a natural disturbance; and provides for the conduct of restoration treatments that—

maximize the retention of old-growth and large trees, as appropriate for the forest type;

consider the best available scientific information to maintain or restore the ecological integrity, including maintaining or restoring structure, function, composition, and connectivity;

are developed and implemented through a collaborative process that—includes multiple interested persons representing diverse interests; and is transparent and nonexclusive; or

meets the requirements for a resource advisory committee under subsections (c) through (f) of section 205 of the Secure Rural Schools and Community Self-Determination Act of 2000 (16 U.S.C. 7125); and

may include the implementation of a proposal that complies with the eligibility requirements of the Collaborative Forest Landscape Restoration Program under section 4003(b) of the Omnibus Public Land Management Act of 2009 (16 U.S.C. 7303(b)). (HFRA, Sections 606(a)(1)(A))

Covered vegetation management activities under this authority do not include:

any activity conducted in a wilderness area or wilderness study area;

any activity for the construction of a permanent road or permanent trail;

any activity conducted on Federal land on which, by Act of Congress or Presidential proclamation, the removal of vegetation is restricted or prohibited;

any activity conducted in an area in which activities under subparagraph (B) would be inconsistent with the applicable land and resource management plan; or

any activity conducted in an inventoried roadless area. (HFRA, Sections 606(a)(1)(C))

This categorical exclusion shall:

comply with the National Environmental Policy Act of 1969 (42 U.S.C. 4321 et seq.);

apply the extraordinary circumstances procedures under section 220.6 of title 36, Code of Federal Regulations (or successor regulations), in determining whether to use the categorical exclusion; and

consider the relative efficacy of landscape-scale habitat projects; the likelihood of continued declines in the populations of greater sage-grouse and mule deer in the absence of landscape-scale vegetation management; and the need for habitat restoration activities after wildfire or other natural disturbances. (HFRA, Sections 606(b))

If the categorical exclusion . . . is used to implement a covered vegetative management activity in an area within the range of both greater sage-grouse and mule deer, the covered vegetative management activity shall protect, restore, or improve habitat concurrently for both greater sage-grouse and mule deer. (HFRA, Sections 606(c))

In regards to the disposal of vegetation material under this authority:

Subject to applicable local restrictions, any vegetative material resulting from a covered vegetation management activity under this authority may be used for fuel wood; or other products; or piled or burned, or both. (HFRA, Sections 606(e))

Any temporary road constructed in carrying out a covered vegetation management activity under this authority:

shall be used . . . for not more than 2 years; and

shall be decommissioned . . . not later than 3 years after the earlier of the date on which—

the temporary road is no longer needed; and

the project is completed;

shall include reestablishing native vegetative cover as soon as practicable; but not later than 10 years after the date of completion of the applicable covered vegetation management activity. (HFRA, Sections 606(f))

Under this authority, a temporary road means a road that is:

authorized by a contract, permit, lease, other written authorization; or pursuant to an emergency operation;

not intended to be part of the permanent transportation system of a Federal department or agency;

not necessary for long-term resource management;

designed in accordance with standards appropriate for the intended use of the

road, taking into consideration safety; the cost of transportation; and impacts to

land and resources; and

managed to minimize erosion; and the introduction or spread of invasive species. (HFRA, Sections 606(a)(3))

Document this category in a decision memo (FSH 1909.15, 33.2-33.3). The decision memo should include a description of the efforts taken by the Agency to meet the collaborative process requirements in HFRA, Section 606(a)(1)(A)(vii)(III).

Cite this authority as Section 606 of HFRA (16 U.S.C. 6591e).

Dated: January 16, 2020.
Allen Rowley,
Associate Deputy Chief, National Forest System.

[FR Doc. 2020-03009 Filed 2-13-20; 8:45 am]

BILLING CODE 3411-15-P